DEPARTMENT OF ENERGY

Federal Energy Regulatory Commission

[Docket No. IC14-9-000]

Commission Information Collection Activities (FERC-520, FERC-561, FERC-566); Comment Request; Extension

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comment on the currently approved information collections FERC-520 (Application for Authority to Hold Interlocking Directorate Positions), FERC-561 (Annual Report of Interlocking Positions), and FERC-566 (Annual Report of a Utility's 20 Largest Purchasers).

DATES: Comments on the collection of information are due May 5, 2014.

ADDRESSES: You may submit comments (identified by Docket No. IC14-9-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Titles: FERC-520 (Application for Authority to Hold Interlocking Directorate Positions), FERC Form 561 (Annual Report of Interlocking Positions), and FERC-566 (Annual Report of a Utility's 20 Largest Purchasers).

OMB Control Nos.: FERC-521 (1902-0083); FERC-561 (1902-0099); FERC-566 (1902-0114).

Type of Request: Three-year extension of the FERC-521, FERC Form 561, and FERC-566 information collection requirements with no changes to the current reporting requirements.

Abstract: The Federal Power Act (FPA), as amended by the Public Utility Regulatory Policies Act of 1978 (PURPA), mandates federal oversight and approval of certain electric corporate activities to ensure that neither public nor private interests are adversely affected. Accordingly, the FPA proscribes related information filing requirements to achieve this goal. Such filing requirements are found in the Code of Federal Regulations (CFR), specifically in 18 CFR Parts 45, 46, and Section 131.31 and serve the basis for FERC-520, Form 561, and FERC-566.

Overview of the Three Data Collections. FERC-520, Form 561 and FERC-566 provide views into complex electric corporate activities and serve to safeguard public and private interests, as the FPA requires. The Commission can use its enforcement authority when violations and omissions of FPA requirements occur.

FERC-520: FERC-520 is divided into two types of applications: Full and informational. The full application, as specified in 18 CFR 45.8, implements the FPA requirement under Section 305(b) that it is unlawful for any person to concurrently hold the positions of officer or director of more than one public utility; or a public utility and a bank or financial institution that underwrites or markets public utility securities; or a public utility and an electrical equipment supplier to that public utility unless authorized by order of the Commission. In order to obtain authorization, an applicant must demonstrate that neither public nor private interests will be adversely affected by the holding of the position. The full application provides Commission staff with a list of certain information about any interlocking position for which he/she seeks authorization including, but not limited to, a description of duties, estimated time devoted to the position, and any indebtedness to the public utility. The informational application, as specified in 18 CFR 45.9, allows an applicant to receive automatic authorization for an interlocked position upon receipt of filing with the FERC. The informational application applies only to those individuals who seek authorization as (1) an officer or director of two or more public utilities where the same holding company owns, directly or indirectly, that percentage of each utility's stock (of whatever class or classes) which is required by each utility's by-laws to elect directors; (2) an officer or director of two public utilities, if one utility is owned, wholly or in part, by the other and, as its primary business, owns and operates transmission or generation facilities to provide transmission service or electric power for sale to its owners; or (3) an officer or director of more than one public utility, if such person is already authorized under Part 45 to hold different positions as officer or director of those utilities where the interlock involves affiliated public utilities.

Pursuant to 18 CFR 45.5, in the event that an applicant resigns or withdraws from all Commission-authorized interlocked positions within a corporate structure or is not re-elected or re-appointed to any interlocked position within that corporate structure, FERC requires that the applicant submit a notice of change within 30 days from the date of the change.

FERC Form 561: The Commission uses FERC Form 561 to implement the FPA requirement that those who are authorized to hold interlocked directorates annually disclose all the interlocked positions they held the prior year. The positions that must be disclosed in the Form 561 are those public utility officers and directors that hold positions with financial institutions, insurance companies, utility equipment and fuel providers, and with any of an electric utility's twenty largest purchasers of electric energy. The FPA specifically defines most of the information elements in the Form 561, including the information that must be filed, the required filers, the directive to make the information available to the public, and the filing deadline. The Commission determined administrative aspects of the Form 561 such as the filing format and instructions for filling out the form.

FERC-566: FERC-566 implements FPA requirements that each public utility annually publish a list of the purchasers of the 20 largest annual amounts of electric energy sold by such public utility during any one of 3 previous calendar years pursuant to rules prescribed by the Commission. The public disclosure of this information provides officers and directors with the information necessary to determine whether any of the entities with whom they are related are any of the largest 20 purchasers of the public utility with which they are affiliated. Similar to the statutory detail in the FPA for Form 561, the FPA identifies who must file the FERC-566 report and sets the filing deadline. Additionally, the FPA specifies that those entities required to report who have a holding company system can calculate their total volumes of energy sold by including the amounts sold by utilities within their holding company system. The FERC details in its regulations special rules about the information to be provided in the FERC-566 report. For example, FERC allows required filers to file estimates of volumes based on actual information available to them if actual volumes are not available by the statutory due date. However, the FERC also requires revisions of those filed estimates with final numbers by March 1st.

Type of Respondents: Individuals who plan to concurrently become board members of regulated electric utilities and of related or similar businesses must request authorization by submitting a FERC-520. Those who are authorized to hold interlocked directorates must annually disclose all the interlocked positions that they held in the prior calendar year by submitting a Form 561. Lastly, each public utility must annually publish the FERC-566 to list the purchasers of the 20 largest annual amounts of electric energy sold by such public utility during any one of 3 previous calendar years pursuant to rules prescribed by the Commission.

Estimate of Annual Burden: ¹ The Commission estimates the total Public Reporting Burden for this information collection as:

¹ The Commission defines burden as the total time, effort, or financial resources expended by persons to generate, maintain, retain, or disclose or provide information to or for a Federal agency. For further explanation of what is included in the information collection burden, reference 5 Code of Federal Regulations 1320.3.

FERC-521 (Application for Authority To Hold Interlocking Directorate Positions)
| Number of respondents | Annual number of responses per respondent | Total number of responses | Average burden/cost per response² | Total annual burden hours (total annual cost) | Cost per respondent ($)
| (1) | (2) | (1)*(2)=(3) | (4) | (3)*(4)=(5) | (5)÷(1)
Full | 10 | 1 | 10 | 51.8 $3,651.9 | 518 $36,519 | $3,652
Informational | 454 | 1 | 454 | 16 $1,128 | 7,264 $512,112 | 1,128
Notice of Change | 254 | 1 | 254 | 0.25 $17.63 | 63.5 $4,477 | $17.63
Total |  |  | 718 |  | 7,845.5 $553,108 | 4,797.63

² The estimates for cost per response are derived using the following formula: Total Annual Cost (Column 5) ÷ Total Number of Responses (Column 3) = Average Cost per Response

³ Total Annual Burden Hours * $70.50.

FERC Form 561 (Annual Report of Interlocking Positions)
| Number of respondents | Annual number of responses per respondent | Total number of responses | Average burden/cost per response ⁴ | Total annual burden hours (total annual cost) ⁵ | Cost per respondent ($)
| (1) | (2) | (1)*(2)=(3) | (4) | (3)*(4)=(5) | (5)÷(1)
FERC Form 561 | 2,675 | 1 | 2,675 | 0.25 $17.63 | 668.75 $47,147 | $17.63

⁴ The estimates for cost per response are derived using the following formula: Total Annual Cost (Column 5) ÷ Total Number of Responses (Column 3) = Average Cost per Response.

⁵ Total Annual Burden Hours * $70.50.

FERC-566 (Annual Report of a Utility's 20 Largest Purchasers)
| Number of respondents | Annual number of responses per respondent | Total number of responses | Average burden/cost per response ⁶ | Total annual burden hours (total annual cost) ⁷ | Cost per respondent ($)
| (1) | (2) | (1)*(2)=(3) | (4) | (3)*(4)=(5) | (5)÷(1)
FERC-566 | 1,082 | 1 | 1,082 | 6 $423 | 6,492 $457,686 | $423

⁶ The estimates for cost per response are derived using the following formula: Total Annual Cost (Column 5) ÷ Total Number of Responses (Column 3) = Average Cost per Response.

⁷ Total Annual Burden Hours * $70.50.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 26, 2014.
Kimberly D. Bose,
Secretary.

[FR Doc. 2014-04740 Filed 3-3-14; 8:45 am]

BILLING CODE 6717-01-P